SECURITIES AND EXCHANGE COMMISSION

[File No. 500-1]

In the Matter of Hutech21 Co., Ltd.; Order of Suspension of Trading

August 5, 2013.

It appears to the Securities and Exchange Commission that there is a lack of current and accurate information concerning the securities of Hutech21 Co., Ltd. (“Hutech21”). Hutech21 is a British Virgin Islands corporation based in Rathwell, Manitoba, and its stock is currently quoted on OTC Link, operated by OTC Markets Group, Inc. under the symbol CLGZF. Questions have arisen concerning the adequacy and accuracy of press releases issued by Hutech21 concerning its business operations.

The Commission is of the opinion that the public interest and the protection of investors require a suspension of trading in the securities of Hutech21.

Therefore, it is ordered, pursuant to Section 12(k) of the Securities Exchange Act of 1934, that trading in the securities of the above-listed company is suspended for the period from 9:30 a.m. EDT, on August 5, 2013 through 11:59 p.m. EDT, on August 16, 2013.

By the Commission.
Jill M. Peterson,
Assistant Secretary.

[FR Doc. 2013-19249 Filed 8-6-13; 11:15 am]

BILLING CODE 8011-01-P